FEDERAL RETIREMENT THRIFT INVESTMENT BOARD

Sunshine Act Meeting

Notice of Board Member Meeting

AGENDA: Federal Retirement Thrift Investment Board, December 18, 2017, 10:00 a.m. (Telephonic)

Open Session

1. Approval of the minutes for the November 28, 2017 Board Member Meeting

2. Monthly Reports

(a) Participant Activity

(b) Investment Performance

(c) Legislative Report

3. OGC Annual Report

4. Blended Retirement Update

Adjourn

CONTACT PERSON FOR MORE INFORMATION: Kimberly Weaver, Director, Office of External Affairs, (202) 942-1640.

Dated: December 7, 2017.
Megan Grumbine,
General Counsel, Federal Retirement Thrift Investment Board.

[FR Doc. 2017-26713 Filed 12-7-17; 11:15 am]

BILLING CODE 6760-01-P